DEPARTMENT OF AGRICULTURE

Forest Service

Newspapers Used for Publication of Legal Notice of Appealable Decisions for the Northern Region; Northern Idaho, Montana, North Dakota, and portions of South Dakota and Eastern Washington

Correction

In notice document 06-9926 appearing on page 78395 in the issue of Friday, December 29, 2006, make the following correction:

In the second column, insert the following text after the third line:

“Regional Forester decisions in North Dakota: Bismarck Tribune.

Regional Forrester decisions in South Dakota: Bismarck Tribune.”

[FR Doc. C6-9926 Filed 1-9-07; 8:45 am]

BILLING CODE 1505-01-D

ENVIRONMENTAL PROTECTION AGENCY

40 CFR Part 372

[TRI-2005-0073; FRL-8260-4

RIN 2025-AA14

Toxics Release Inventory Burden Reduction Final Rule

Correction

In rule document E6-21958 beginning on page 76932 in the issue of Friday, December 22, 2006, make the following correction:

On page 76937, at the bottom of the second column, in footnote six, “For the purposes of the proposed rule and the final rule, “non-PBT chemicals ” indicates all listed TRI chemicals that are not “which are listed in 40 CFR 372.28.”” should read, “The Agency cannot determine with certainty whether a facility has exceeded the one-million-pound threshold because facilities are not required to report totals for manufacture, processing, or otherwise use.”

[FR Doc. Z6-21958 Filed 1-9-07; 8:45 am]

BILLING CODE 1505-01-D

DEPARTMENT OF THE TREASURY

Office of the Comptroller of the Currency

12 CFR Part 3

[Docket No. 06-15]

RIN 1557-AC95

FEDERAL RESERVE SYSTEM

12 CFR Parts 208 and 225

[Regulations H and Y; Docket No. R-1238]

FEDERAL DEPOSIT INSURANCE CORPORATION

12 CFR Part 325

RIN 3064-AC96

DEPARTMENT OF THE TREASURY

Office of Thrift Supervision

12 CFR Part 567

[No. 2006-49]

RIN 1550-AB98

Risk-Based Capital Guidelines; Capital Adequacy Guidelines; Capital Maintenance: Domestic Capital Modifications

Correction

In proposed rule document 06-9738 beginning on page 77446 in the issue of Tuesday, December 26, 2006, make the following correction:

On page 77452, in Table 2, in the last column, in the second entry, “3” should read “35”.

[FR Doc. C6-9738 Filed 1-9-07; 8:45 am]

BILLING CODE 1505-01-D